DEPARTMENT OF COMMERCE

International Trade Administration

[A-351-840]

Revocation of Antidumping Duty Order: Certain Orange Juice From Brazil

AGENCY: Import Administration, International Trade Administration, Department of Commerce.

SUMMARY: On February 1, 2011, the Department of Commerce (the Department) initiated a sunset review of the antidumping duty order on certain orange juice (OJ) from Brazil.¹ On April 13, 2012, the International Trade Commission (ITC) determined that revocation of this order would not be likely to lead to continuation or recurrence of material injury to an industry in the United States within a reasonably foreseeable time, pursuant to section 751(c) of the Tariff Act of 1930, as amended (the Act).² Therefore, pursuant to section 751(d)(2) of the Act and 19 CFR 351.222(i)(1)(iii), the Department is revoking the antidumping duty order on OJ from Brazil.

¹ See Initiation of Five-Year (“Sunset”) Review, 76 FR 5563 (Feb. 1, 2011) (Initiation Notice).

² See Certain Orange Juice From Brazil, 77 FR 22343 (Apr. 13, 2012) (ITC Final).

DATES: Effective Date: March 9, 2011.

FOR FURTHER INFORMATION CONTACT: Elizabeth Eastwood, AD/CVD Operations, Office 2, Import Administration, International Trade Administration, U.S. Department of Commerce, 14th Street and Constitution Avenue NW., Washington, DC 20230; telephone: (202) 482-3874.

SUPPLEMENTARY INFORMATION:

Scope of the Order

The scope of the order includes certain orange juice for transport and/or further manufacturing, produced in two different forms: (1) Frozen orange juice in a highly concentrated form, sometimes referred to as frozen concentrated orange juice for manufacture (FCOJM); and (2) pasteurized single-strength orange juice which has not been concentrated, referred to as not-from-concentrate (NFC). At the time of the filing of the petition, there was an existing antidumping duty order on frozen concentrated orange juice (FCOJ) from Brazil.³ Therefore, the scope of the order with regard to FCOJM covers only FCOJM produced and/or exported by those companies which were excluded or revoked from the pre-existing antidumping order on FCOJ from Brazil as of December 27, 2004. Those companies are Cargill Citrus Limitada, Coinbra Frutesp S.A.,⁴ Fischer S.A. Comercio, Industria, and Agricultura, Montecitrus Trading S.A., and Sucocitrico Cutrale, S.A.

³ See Antidumping Duty Order; Frozen Concentrated Orange Juice From Brazil, 52 FR 16426 (May 5, 1987).

⁴ The Department preliminarily found that Louis Dreyfus Commodities Agroindustrial S.A. (Louis Dreyfus) is the successor-in-interest to Coinbra Frutesp (SA). See Certain Orange Juice From Brazil: Preliminary Results of Antidumping Duty Administrative Review and Preliminary No Shipment Determination, 77 FR 21724 (Apr. 11, 2012).

Excluded from the scope of the order are reconstituted orange juice and frozen concentrated orange juice for retail (FCOJR). Reconstituted orange juice is produced through further manufacture of FCOJM, by adding water, oils and essences to the orange juice concentrate. FCOJR is concentrated orange juice, typically at 42 Brix, in a frozen state, packed in retail-sized containers ready for sale to consumers. FCOJR, a finished consumer product, is produced through further manufacture of FCOJM, a bulk manufacturer's product.

The subject merchandise is currently classifiable under subheadings 2009.11.00, 2009.12.25, 2009.12.45, and 2009.19.00 of the Harmonized Tariff Schedule of the United States (HTSUS). These HTSUS subheadings are provided for convenience and for customs purposes only and are not dispositive. Rather, the written description of the scope of the order is dispositive.

Background

On March 9, 2006, the Department published in the Federal Register an antidumping duty order on OJ from Brazil.⁵

⁵ See Antidumping Duty Order: Certain Orange Juice from Brazil, 71 FR 12183 (Mar. 9, 2006).

On February 1, 2011, the Department initiated, and the ITC instituted, a sunset review of the antidumping duty order on OJ from Brazil. See Initiation Notice. As a result of its sunset review of this order, the Department found that revocation of the antidumping duty order would be likely to lead to the continuation or recurrence of dumping.⁶ The Department notified the ITC of the magnitude of the margins likely to prevail were the antidumping duty order to be revoked.

⁶ See Certain Orange Juice From Brazil: Final Results of the Expedited Sunset Review of the Antidumping Duty Order, 76 FR 30655 (May 26, 2011).

On April 13, 2012, the ITC determined, pursuant to section 751(c) of the Act, that revocation of this order would not be likely to lead to continuation or recurrence of material injury to an industry in the United States within a reasonably foreseeable time.⁷

⁷ See ITC Final and USITC Publication 4311 (April 2012), titled Certain Orange Juice from Brazil (Inv. No. 731-TA-1089).

Revocation

As a result of the determination by the ITC that revocation of this order is not likely to lead to the continuation or recurrence of material injury to an industry in the United States, the Department, pursuant to section 751(d) of the Act, is revoking the antidumping duty order on OJ from Brazil. Pursuant to section 751(d)(2) of the Act and 19 CFR 351.222(i)(2)(i), the effective date of revocation is March 9, 2011 (i.e., the fifth anniversary of the date of publication in the Federal Register of the antidumping duty order). The Department will notify U.S. Customs and Border Protection to discontinue suspension of liquidation and collection of cash deposits on entries of the subject merchandise entered or withdrawn from warehouse on or after March 9, 2011, the effective date of revocation of the antidumping duty order. The Department will complete any pending administrative reviews of this order.

This revocation and notice are issued in accordance with section 751(d)(2) of the Act and published pursuant to section 777(i)(1) of the Act.

Dated: April 16, 2012.
Paul Piquado,
Assistant Secretary for Import Administration.

[FR Doc. 2012-9592 Filed 4-19-12; 8:45 am]

BILLING CODE 3510-DS-P